DEPARTMENT OF HEALTH AND HUMAN SERVICES

[Document Identifier: OS-0990-0419]

Agency Information Collection Request. 30-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before July 28, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Sherrette Funn, Sherrette.Funn@hhs.gov or (202) 264-0041, or PRA@HHS.GOV. When submitting comments or requesting information, please include the document identifier 0990-0419-30D and project title for reference.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: Acquisition Regulation Clause Patent Rights and Rights in Data.

Type of Collection: Extension.

OMB No: 0990-0419.

Abstract: The Department of Health and Human Services; Office of the Assistant Secretary for Financial Resources, Office of Acquisitions, Acquisition Policy Division is requesting an approval by OMB for an extension of a previously approved information collection request, Acquisition Regulation Clause Patent Rights and Rights in Data. HHS found that systematically, over a period of several years, when Determination of Exceptional Circumstances (DEC) were executed, additional legal protection for the patent and data rights of third parties beyond those covered by FAR 27.306 were necessary A DEC is executed consistent with the policy and objectives of the Bayh-Dole Act, 35 U.S.C. 200, et seq., to ensure that subject inventions made under contracts and subcontracts (at all tiers) are used in a manner to promote free competition and enterprise without unduly encumbering future research and discovery; to encourage maximum participation of small business firms in federally supported research and development efforts; to promote collaboration between commercial concerns and nonprofit organizations including universities; to ensure that the Government obtains sufficient rights in federally supported inventions to meet its needs; to protect the public against nonuse or unreasonable use of inventions; and in the case of fulfilling the mission of the U.S. Department of Health and Human Services, to ultimately to benefit the public health.

Likely Respondents: administrative, technical, legal and management personnel.

Estimated Annualized Burden Table
Type of respondent and hours for each | Number of respondents | Number of responses per respondent | Average burden per response (hours) | Total burden hours
Technical (4); Legal (2); Management (2) | 63 | 1 | 8 | 504
Technical (8); Legal (2); Management (2) | 63 | 1 | 12 | 756
Technical (8); Legal (3); Management (1) | 63 | 3 | 12 | 2,268
Technical (8); Legal (4); Management (2) | 63 | 3 | 14 | 2,646
Technical (6); Legal (2); Management (2) | 63 | 1 | 10 | 630
Technical (4); Legal (2); Management (2) | 63 | 1 | 8 | 504
Administrative (8) | 63 | 3 | 8 | 1,512
Administrative (2); Management (1) | 63 | 3 | 3 | 567
Technical (4); Legal (2); Management (2) | 63 | 3 | 8 | 1,512
Total |  |  |  | 10,899

Sherrette A. Funn,
Paperwork Reduction Act Reports Clearance Officer, Office of the Secretary.

[FR Doc. 2023-13783 Filed 6-27-23; 8:45 am]

BILLING CODE 4150-04-P